DEPARTMENT OF HEALTH AND HUMAN SERVICES

Administration for Children and Families

[CFDA Number 93.631]

Announcement of the Award of a Single-Source Program Expansion Supplement Grant to the University of Boston for the Institute for Community Inclusion (ICI) in Boston, MA

AGENCY: Administration on Developmental and Intellectual Disabilities (AIDD), ACF, HHS.

ACTION: Announcing the award a single-source program expansion supplement to the University of Massachusetts for the Institute for Community Inclusion in Boston, MA, to support the additional employment grants that will be awarded.

SUMMARY: The Administration for Children and Families (ACF), Administration on Developmental and Intellectual Disabilities (AIDD) announces the award of a grant in the amount of $300,000 to the University of Massachusetts for the Institute for Community Inclusion, Boston, MA.

DATES: The project period for the award is from September 30, 2012 to September 29, 2013.

FOR FURTHER INFORMATION CONTACT: Ophelia McLain, Supervisory Program Specialist, Administration on Intellectual and Developmental Disabilities, 370 L'Enfant Promenade SW., 2nd Floor East, Washington, DC 20447. Telephone: 202-690-7025; Email: ophelia.mclain@acf.hhs.gov.

SUPPLEMENTARY INFORMATION: In September 2011, the Administration on Developmental and Intellectual Disabilities (AIDD) awarded a grant to the ICI to serve as the training and technical assistance (T/TA) provider to recipients of Partnerships in Employment Systems Change grants, also awarded that same year. AIDD has expanding the Employment efforts by awarding two additional Partnerships in Employment Systems Change grants in Fiscal Year 2012. Program expansion supplemental award funds will support T/TA efforts by the ICI in serving the two additional two grantees.

Statutory Authority: The statutory authority is the Developmental Disabilities Assistance and Bill of Rights Act of 2000, Section 161.

Jamie Kendall,
Deputy Commissioner, Administration on Intellectual and Developmental Disabilities.

[FR Doc. 2012-23244 Filed 9-19-12; 8:45 am]

BILLING CODE 4184-38-P